FEDERAL COMMUNICATIONS COMMISSION

47 CFR Part 73

[MB Docket No. 21-422; FCC 22-38; FR ID 112477]

FM Broadcast Radio Service Directional Antenna Performance Verification

AGENCY: Federal Communications Commission.

ACTION: Final rule; announcement of effective date.

SUMMARY: In this document, the Commission announces that the Office of Management and Budget has approved revisions to the information collection requirements under OMB Control Numbers 3060-0506 and 3060-0938, as associated with the amended rules adopted in the Federal Communications Commission's FM Broadcast Directional Antenna Performance Verification Order, FCC 22-38. This Order governs the Commission's revised FM broadcast rules to allow for FM antenna directional pattern verification by computer modeling, and the procedures for submitting the required modeling information on the appropriate FCC 2100, Schedule 302-FM (FM Station License Application) or FCC Form 2100, Schedule 319 (Low Power FM (LPFM) License Application). This document is consistent with the FM Broadcast Directional Antenna Performance Verification Order, which states that the Commission will publish a document in the Federal Register announcing the effective date for these amended rule sections and revise the rules accordingly.

DATES: The amendments to 47 CFR 73.316 and 73.1690, published at 87 FR 35426 on June 10, 2022, are effective November 10, 2022.

FOR FURTHER INFORMATION CONTACT: Cathy Williams, Office of the Managing Director, Federal Communications Commission, at (202) 418-2918 or Cathy.Williams@fcc.gov.

SUPPLEMENTARY INFORMATION: This document announces that the Office of Management and Budget (OMB) approved the information collection requirements in 47 CFR 73.316 and 73.1690 on October 13, 2022. These rule sections were adopted in the FM Broadcast Directional Antenna Performance Verification Order, FCC 22-38 (87 FR 35426 (June 10, 2022)). The Commission publishes this document as an announcement of the effective date for these amended rules.

If you have any comments on the burden estimates listed below, or how the Commission can improve the collections and reduce any burdens caused thereby, please contact Cathy Williams, Federal Communications Commission, Room 3.317, 45 L Street NE, Washington, DC 20554, regarding OMB Control Numbers 3060-0506 and 3060-0938. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on October 13, 2022, for the information collection requirements contained in 47 CFR 73.316 and 73.1690. Under 5 CFR part 1320, an agency may not conduct or sponsor a collection of information unless it displays a current, valid OMB Control Number.

No person shall be subject to any penalty for failing to comply with a collection of information subject to the Paperwork Reduction Act that does not display a current, valid OMB Control Number. The OMB Control Numbers for the information collection requirements in 47 CFR 73.316 and 73.1690 are 3060-0506 and 3060-0938.

The foregoing notice is required by the Paperwork Reduction Act of 1995, Public Law 104-13, October 1, 1995, and 44 U.S.C. 3507.

The total annual reporting burdens and costs for the respondents are as follows:

OMB Control Number: 3060-0506.

Title: FCC Form 2100, Schedule 302-FM—FM Station License Application.

Form Number: FCC Form 2100, Schedule 302-FM.

Respondents: Business or other for-profit entities; Not-for-profit institutions.

Number of Respondents and Responses: 925 respondents; 925 responses.

Estimated Time per Response: 1-2 hours.

Frequency of Response: On occasion reporting requirement.

Total Annual Burden: 3,135 hours.

Total Annual Costs: $801,500.

Obligation To Respond: Required to obtain or retain benefits. The statutory authority for this collection of information is contained in Sections 154(i), 303 and 308 of the Communications Act of 1934, as amended.

Needs and Uses: In the FM Broadcast Directional Antenna Performance Verification Order, FCC 22-38, adopted May 19, 2022, and released on May 19, 2022, the Commission revised its FM broadcast rules and procedures to allow for FM antenna directional pattern verification by computer modeling. This represents an update from the previous requirement that an FM or LPFM directional antenna's performance be verified by the “measured relative field pattern” and brings our rules for those services into regulatory conformity with our rules governing AM and digital TV (DTV) directional antennas. The Commission expects that this change in how the antenna manufacturer may validate its FM directional antenna studies will provide an FM license applicant with greater flexibility in antenna siting and reduce the overall costs of designing and building an FM directional antenna, and station construction.

Specifically, pertaining to this Information Collection and full-service FM stations, the Commission revises the relevant rules, 47 CFR 73.316 and 73.1690, and corresponding instructions to the FM license application, as follows:

Gives an FM license applicant that employs a directional antenna the option of submitting computer-generated proofs of the FM directional antenna pattern prepared by the antenna's manufacturer, in lieu of measured pattern plots and tabulations derived from physical full-size or scale model antenna mockups.

In § 73.316, specifies the information required in a license application filed for a station using an FM directional antenna, which opts to use computer modeling pattern verification. For example, the license application must include a statement from the engineer responsible for designing the antenna, performing the modeling, and preparing the antenna manufacturer's instructions for installation of the antenna, that identifies and describes the software used to create the computer model, the software tool(s) used in the modeling and the procedures applied in using the software. The statement should describe all radiating structures included in the model. It must also include a certification that the software executed normally without generating error messages or warnings.

Requires that, the first time the directional pattern of a particular model of antenna is verified using computer results, the broadcast station must submit to the Commission both the results of the computer modelling and the measurements of either a full-size or scale model of the antenna or elements thereof, demonstrating a reasonable correlation between the measurements achieved and the computer model results. Once a particular antenna model or series of elements has been verified, subsequent applicants using the same antenna model number or elements and the same modeling software may cross-reference the original submission by providing the application file number.

The revisions to the relevant rules and corresponding Schedule 302-FM instructions listed above may potentially affect the substance, burden hours, and costs of completing the Schedule 302-FM. Therefore, this submission was made to OMB for approval of the revised Information Collection requirements.

OMB Control Number: 3060-0938.

Title: Form 2100, Schedule 319—Low Power FM Station License Application.

Form Number: FCC Form 2100, Schedule 319.

Respondents: Not-for-profit institutions, State, local, or Tribal Government.

Number of Respondents and Responses: 200 respondents and 200 responses.

Estimated Time per Response: 1 hour.

Frequency of Response: On occasion reporting requirement.

Total Annual Burden: 200 hours.

Total Annual Cost: $27,500.

Obligation to Respond: Required to obtain or retain benefits. The statutory authority for this collection of information is contained in Sections 154(i), 303 and 308 of the Communications Act of 1934, as amended.

Needs and Uses: In the FM Broadcast Directional Antenna Performance Verification Order, FCC 22-38, adopted May 19, 2022, and released on May 19, 2022, the Commission revised its FM broadcast rules and procedures to allow for LPFM antenna directional pattern verification by computer modeling. This represents an update from the previous requirement that an FM or LPFM directional antenna's performance be verified by the “measured relative field pattern” and brings our rules for those services into regulatory conformity with our rules governing AM and DTV directional antennas. The Commission expects that this change in how the antenna manufacturer may validate its LPFM directional antenna studies will provide an LPFM license applicant with greater flexibility in antenna siting and reduce the overall costs of designing and building an LPFM directional antenna, and station construction.

Specifically, pertaining to this Information Collection and LPFM stations, the Commission is revising the relevant rules, 47 CFR 73.316 and 73.1690, and corresponding instructions to the LPFM license application, as follows:

Gives an LPFM license applicant that employs a directional antenna the option of submitting computer-generated proofs of the LPFM directional antenna pattern prepared by the antenna's manufacturer, in lieu of measured pattern plots and tabulations derived from physical full-size or scale model antenna mockups.

In § 73.316, specifies the information required in a license application filed for a station using an LPFM directional antenna, which opts to use computer modeling pattern verification. For example, the license application must include a statement from the engineer responsible for designing the antenna, performing the modeling, and preparing the antenna manufacturer's instructions for installation of the antenna, that identifies and describes the software used to create the computer model, the software tool(s) used in the modeling and the procedures applied in using the software. The statement should describe all radiating structures included in the model. It must also include a certification that the software executed normally without generating error messages or warnings.

Requires that, the first time the directional pattern of a particular model of antenna is verified using computer results, the broadcast station must submit to the Commission both the results of the computer modelling and the measurements of either a full-size or scale model of the antenna or elements thereof, demonstrating a reasonable correlation between the measurements achieved and the computer model results. Once a particular antenna model or series of elements has been verified, subsequent applicants using the same antenna model number or elements and the same modeling software may cross-reference the original submission by providing the application file number.

The revisions to the relevant rules and corresponding Form 2100, Schedule 319 (LPFM License Application) instructions listed above may potentially affect the substance, hours, and costs of completing the Schedule 319 (LPFM License Application). Therefore, this submission was made to OMB for approval of the revised Information Collection requirements.

Federal Communications Commission.
Marlene Dortch,
Secretary.

[FR Doc. 2022-24350 Filed 11-9-22; 8:45 am]

BILLING CODE 6712-01-P